FEDERAL MEDIATION AND CONCILIATION SERVICE

Labor-Management Cooperation Program; Proposed Policy Change

AGENCY: Federal Mediation and Conciliation Service.

ACTION: Request for public comment on proposed policy change on allocating funds under the Labor-Management Cooperation Program.

SUMMARY: The Federal Mediation and Conciliation Service (FMCS) is publishing the Proposed Policy Change on Allocating Funds Under the Labor-Management Cooperation Program to inform the public. The program is supported by Federal funds authorized by the Labor-Management Cooperation Act of 1978, subject to annual appropriations.

DATES: Comments must be submitted on or before July 16, 2001.

ADDRESSES: Send Comments to: Vella M. Traynham, Director of Arbitration Services, FMCS, 2100 K Street, NW., Washington, DC 20427.

FOR FURTHER INFORMATION CONTACT: Vella M. Traynham, 202-606-8181.

Labor-Management Cooperation Program Proposed Guideline Change

D. Allocations

Any funds returned to FMCS from a competitive grant can be awarded on a noncompetitive basis, provided the award is made during the period in which the grant period is effective.

C. Richard Barnes,
Director, Federal Mediation and Conciliation Service.

[FR Doc. 01-15026 Filed 6-13-01; 8:45 am]

BILLING CODE 6732-01-M